DEPARTMENT OF ENERGY

Federal Energy Regulatory Commission

[Project No. 14633-001]

Notice of Application Ready for Environmental Analysis and Soliciting Comments, Recommendations, and Terms and Conditions: New England Hydropower Company, LLC

Take notice that the following hydroelectric application has been filed with the Commission and is available for public inspection.

a. Type of Application: Exemption From Licensing.

b. Project No.: 14633-001.

c. Date filed: October 1, 2018.

d. Applicant: New England Hydropower Company, LLC (NEHC).

e. Name of Project: Albion Dam Hydroelectric Project.

f. Location: On the Blackstone River, near the Towns of Cumberland and Lincoln, Providence County, Rhode Island. No federal or tribal lands would be occupied by project works or located within the project boundary.

g. Filed Pursuant to: Public Utility Regulatory Policies Act of 1978, 16 U.S.C. 2705, 2708 (2012), amended by the Hydropower Regulatory Efficiency Act of 2013, Public Law 113-23, 127 Stat. 493 (2013).

h. Applicant Contact: Michael C. Kerr, 100 Cummings Center, Suite 451C, Beverly, MA 01915; phone at (978) 360-2547 or email at Michael@nehydropower.com.

i. FERC Contact: Patrick Crile, (202) 502-8042, or email at patrick.crile@ferc.gov.

j. Deadline for filing comments, recommendations, and terms and conditions: 60 days from the issuance date of this notice; reply comments are due 105 days from the issuance date of this notice.

The Commission strongly encourages electronic filing. Please file comments, recommendations, and terms and conditions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14633-001.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The proposed Albion Dam Hydroelectric Project would consist of: (1) An approximately 266-foot-long existing concrete gravity dam with an ogee spillway; (2) an existing 20.4-acre impoundment with a normal storage capacity of 235 acre-feet at an operating elevation of approximately 87.0 feet North American Vertical Datum of 1988; (3) a new 51-foot-long, 45.75-foot-wide intake canal; (4) two new 14-foot-wide, 10.4-foot-high hydraulically-powered sluice gates, each equipped with a 15-foot-wide, 9.7-foot-high steel trashrack with 9-inch clear-bar spacing; (5) two new 30-foot-long, 15-foot-wide, 9.7-foot-high concrete penstocks; (6) a new 50-foot-long, 24-foot-wide, 18-foot-high concrete powerhouse containing two 210-kilowatt (kW) Archimedes Screw turbine-generator units, for a total installed capacity of 420 kW; (7) a new 50-foot-long concrete tailrace; (8) a new step-up transformer and 500-foot-long, above-ground transmission line connecting the project to the distribution system owned by the Narragansett Electric Company; (9) a new access road; and (10) appurtenant facilities. The existing Albion Dam and appurtenant works are owned by the State of Rhode Island.

NEHC proposes to operate the project in a run-of-river mode with an estimated annual energy production of approximately 2,034 megawatt-hours.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the Cumberland Town Hall, 45 Broad Street, Cumberland, RI 02864.

All filings must (1) bear in all capital letters the title “COMMENTS”, “REPLY COMMENTS”, “RECOMMENDATIONS,” or “TERMS AND CONDITIONS,” (2) set forth in the heading the name of the applicant and the project number of the application to which the filing responds; (3) furnish the name, address, and telephone number of the person submitting the filing; and (4) otherwise comply with the requirements of 18 CFR 385.2001 through 385.2005. All comments, recommendations, or terms and conditions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Rhode Island State Historic Preservation Officer, as required by section 106 of the National Historic Preservation Act, and the implementing regulations of the Advisory Council on Historic Preservation at 36 CFR 800.2.

p. Based on the presence of an existing dam, the applicant's coordination with federal and state agencies during the preparation of the application, and studies completed during pre-filing consultation, we accept the consultation that has occurred on this project during the pre-filing period as satisfying National Environmental Policy Act scoping. Based on a review of the application, resource agency consultation letters, and comments filed to date, Commission staff intends to prepare a single environmental assessment (EA) for the proposed project. Commission staff determined that the issues that need to be addressed in its EA have been adequately identified during the pre-filing period, which included a public meeting, and no new issues are likely to be identified through additional scoping. The EA will consider assessing the potential effects of project construction and operation on geology and soils, aquatic, terrestrial, threatened and endangered species, recreation and land use, and cultural and historic resources.

q. Procedural Schedule and Final Amendments: The application will be processed according to the following preliminary schedule. Revisions to the schedule will be made as appropriate.

Milestone | Target date
Filing of comments, recommendations, and terms and conditions | August 2019.
Commission issues Environmental Assessment | December 2019.

r. Final amendments to the application must be filed with the Commission no later than 30 days from the issuance date of this notice.

Dated: June 11, 2019.
Kimberly D. Bose,
Secretary.

[FR Doc. 2019-12738 Filed 6-14-19; 8:45 am]

BILLING CODE 6717-01-P